DEPARTMENT OF ENERGY

Federal Energy Regulatory Commission

[Docket No. ER01-2644-000, 001, 002, and 003]

Colton Power, L.P.; Notice of Issuance of Order

January 31, 2002.

Colton Power, L.P. (Colton Power) submitted for filing a tariff that provides for the sales of capacity, energy, and ancillary services at market-based rates. Colton Power also requested waiver of various Commission regulations. In particular, Colton Power requested that the Commission grant blanket approval under 18 CFR part 34 of all future issuances of securities and assumptions of liability by Colton Power.

On January 30, 2002, the Commission issued an order (Order) that accepted Colton Power's application, subject to any tariff condition adopted by the Commission in Docket No. ER01-118-000.

The Commission's January 30, 2002 Order granted Colton Power's request for blanket approval under Part 34, subject to the conditions found in Appendix A in Ordering Paragraphs (2), (3), and (5):

(2) Within 30 days of the date of this order, any person desiring to be heard or to protest the Commission's blanket approval of issuances of securities or assumptions of liabilities by Colton Power should file a motion to intervene or protest with the Federal Energy Regulatory Commission, 888 First Street, NE., Washington, DC 20426, in accordance with Rules 211 and 214 of the Commission's Rules of Practice and Procedure, 18 CFR 385.211 and 385.214.

(3) Absent a request to be heard within the period set forth in Ordering Paragraph (2) above, Colton Power is hereby authorized to issue securities and assume obligations and liabilities as guarantor, indorser, surety or otherwise in respect of any security of another person; provided that such issue or assumption is for some lawful object within the corporate purposes of Colton Power, compatible with the public interest, and reasonably necessary or appropriate for such purposes.

(5) The Commission reserves the right to modify this order to require a further showing that neither the public nor private interests will be adversely affected by continued Commission approval of the Colton Power's issuances of securities or assumptions of liabilities * * *.

Notice is hereby given that the deadline for filing motions to intervene or protests, as set forth above, is February 25, 2002.

Copies of the full text of the Order are available from the Commission's Public Reference Branch, 888 First Street, NE, Washington, DC 20426. The Order may also be viewed on the Internet at http://www.ferc.fed.us/online/rims.htm (call 202-208-2222 for assistance). Comments, protests, and interventions may be filed electronically via the internet in lieu of paper. See, 18 CFR 385.2001(a)(1)(iii) and the instructions on the Commission's Web site at http://www.ferc.fed.us/efi/doorbell.htm.

Magalie R. Salas,
Secretary.

[FR Doc. 02-2816 Filed 2-5-02; 8:45 am]

BILLING CODE 6717-01-P